DEPARTMENT OF JUSTICE

Antritrust Division

Notice Pursuant to the National Cooperative Research and Production Act of 1993—Water Heater Industry Joint Research and Development Consortium

Notice is hereby given that, on March 3, 2003, pursuant to section 6(a) of the National Cooperative Research and Production Act of 1993, 15 U.S.C. 4301 et seq. (“the Act”), Water Heater Industry Joint Research and Development Consortium (“the Consortium”) filed written notifications simultaneously with the Attorney General and the Federal Trade Commission disclosing changes in its membership status and an extension of its term. The notifications were filed for the purpose of extending the Act's provisions limiting the recovery of antitrust plaintiffs to actual damages under specified circumstances Specifically, the membership of GSW Water Heating Company, a Division of GSW Inc., Fergus, Ontario, CANADA, has been transferred to GSW Water products Inc., a new wholly owned subsidiary of GSW Inc, Fergus, Ontario, CANADA. Also, the term of the Consortium has been changed as of February 20, 2003, from a term of eight years beginning February 27, 1995, to a period of nine years beginning February 27, 1995.

No other changes have been made in either the membership or planned activity of the group research project. Membership in this group research project remains open, and the Consortium intends to file additional written notification disclosing all changes in membership.

On February 28, 1995, the Consortium filed its original notification pursuant to section 6(a) of the Act. The Department of Justice published a notice in the Federal Register pursuant to section 6(b) of the Act on March 27, 1995 (60 FR 15789).

The last notification was filed with the Department on March 4, 2002. A notice was published in the Federal Register pursuant to section 6(b) of the Act on April 4, 2002 (67 FR 16125).

Constance K. Robinson,
Director of Operations, Antitrust Division.

[FR Doc. 03-9291 Filed 4-15-03; 8:45 am]

BILLING CODE 4410-11-M